NATIONAL ARCHIVES AND RECORDS ADMINISTRATION

Records Schedules; Availability and Request for Comments

AGENCY: National Archives and Records Administration (NARA).

ACTION: Notice of Availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 10, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Food and Nutrition Service (N1-462-10-1, 1 item, 1 temporary item). Case files for implementing and managing records hold, freezes, and destruction moratoriums.

2. Department of Commerce, National Institute of Standards and Technology (N1-167-09-4, 4 items, 4 temporary items). Records of the National Voluntary Laboratory Accreditation Program, including laboratory applications, assessment reports, testing results, correspondence, assessor records, and copies of assessor contracts.

3. Department of Commerce, National Oceanic and Atmospheric Administration (N1-370-11-1, 3 items, 3 temporary items). Asset forfeiture records maintained by the National Marine Fisheries Service, including forfeited property case files and an asset forfeiture database used in collection of penalties, fines, and proceeds of forfeited property.

4. Department of Homeland Security, U.S. Customs and Border Protection (N1-568-09-6, 2 items, 2 temporary items). Master files and associated case files of an electronic information system containing asset tracking information regarding firearms, scopes, batons, body armor, and related law enforcement equipment.

5. Department of the Interior, Bureau of Indian Affairs (N1-75-07-14, 4 items, 1 temporary item). Non-archival standard scanned images in an electronic information system used to enroll Alaska Native tribal and corporation members to obtain certification. Proposed for permanent retention are master files and archival standard images.

6. Department of the Interior, Office of the Secretary (N1-48-11-2, 1 item, 1 temporary item). Master files for an electronic system used to generate agency self-assessment and workforce demographic reports for the Equal Employment Opportunity Commission.

7. Department of the Interior, Office of Surface Mining and Reclamation Enforcement (N1-471-10-1, 2 items, 1 temporary item). Reference copies of master files of an electronic information system used to track permits and violations of surface coal mining. Proposed for permanent retention are record copies of the master files.

8. Department of the Interior, U.S. Geological Survey (DAA-57-2011-1, 5 items, 5 temporary items). Passport and visa records, including passport applications, registers, and reports; copies of issued visas; communications between U.S. Geological Survey and the Department of State; and master files of an electronic information system used to manage passport information.

9. Department of Justice, Justice Management Division (N1-060-10-1, 3 items, 3 temporary items). Records relating to allocation and obligation of asset forfeiture funds. Records include agreements, invoices, reports, and other supporting documentation for the obligating and paying out of funds.

10. Department of State, Bureau of International Information Programs (N1-59-11-2, 1 item, 1 temporary item). Records relating to web management training files.

11. Department of Veterans Affairs, Office of the General Counsel (N1-15-11-1, 5 items, 5 temporary items). Records relating to the accreditation of and fee agreements with veterans service organizations representing veterans seeking benefits as a result of military service.

Dated: January 6, 2011.
Michael J. Kurtz,
Assistant Archivist for Records Services—Washington, DC.

[FR Doc. 2011-496 Filed 1-10-11; 8:45 am]

BILLING CODE 7515-01-P